DEPARTMENT OF LABOR

Employment Standards Administration

Office of Federal Contract Compliance Programs

Interpreting Nondiscrimination Requirements of Executive Order 11246 With Respect to Systemic Compensation Discrimination; Extension of Comment Period

AGENCY: Office of Federal Contract Compliance Programs, Employment Standards Administration, Department of Labor.

ACTION: Notice of proposed standards for systemic compensation discrimination under Executive Order 11246; extension of comment period.

SUMMARY: This document extends the period for comments on the Notice published on November 16, 2004 (69 FR 67246), regarding proposed standards for systemic compensation discrimination under Executive Order 11246. The comment period, which was to expire on December 16, 2004, is extended to January 19, 2005.

DATES: Comments on the Notice published on November 16, 2004 (69 FR 67246) must be submitted by the following dates: Hard copy: your comments must be postmarked by January 19, 2005; facsimile: your comments must be sent by January 19, 2005; electronic mail: your comments must be sent by January 19, 2005.

ADDRESSES: Comments should be submitted to Joseph DuBray, Jr., Director, Division of Policy, Planning and Program Development, OFCCP. Electronic mail is the preferred method for submittal of comments. Comments by electronic mail must be clearly identified as pertaining to the notice interpreting nondiscrimination requirements of Executive Order 11246 with respect to systemic compensation discrimination, and sent to ofccp-public@dol.gov. As a convenience to commenters, public comments transmitted by facsimile (FAX) machine will be accepted. The telephone number of the FAX receiver is (202) 693-1304. To assure access to the FAX equipment, only public comments of six or fewer pages will be accepted via FAX transmittal. Where necessary, hard copies of comments, clearly identified as pertaining to the notice interpreting nondiscrimination requirements of Executive Order 11246 with respect to systemic compensation discrimination, may also be delivered to Joseph DuBray, Jr., Director, Division of Policy, Planning and Program Development, OFCCP, Room C-3325, 200 Constitution Avenue, NW., Washington, DC 20210. Receipt of submissions will not be acknowledged, except that the sender may request confirmation of receipt by calling OFCCP at (202) 693-0102 (voice), or (202) 693-1308 (TTY).

FOR FURTHER INFORMATION CONTACT: Joseph DuBray, Jr., Director, Division of Policy, Planning and Program Development, OFCCP, Room C-3325, 200 Constitution Avenue, NW., Washington, DC 20210. Telephone (202) 693-0102 (voice), or (202) 693-1308 (TTY). Copies of this notice in alternative formats may be obtained by calling (202) 693-0102 (voice), or (202) 693-1308 (TTY). The alternative formats available are large print, electronic file on computer disk, and audiotape. The Notice is available on the Internet at http://www.dol.gov/esa.

SUPPLEMENTARY INFORMATION: In the Federal Register of November 16, 2004 (69 FR 67246), the Department published a Notice entitled, “Interpreting Nondiscrimination Requirements of Executive Order 11246 With Respect to Systemic Compensation Discrim ination.” Interested persons were invited to submit comments on or before December 16, 2004. Because several interested parties requested additional time to develop comments, and in light of the intervening Thanksgiving holiday, the Department has decided to extend the comment period until January 19, 2005.

Signed at Washington, DC this 8th day of December, 2004.
Victoria A. Lipnic,
Assistant Secretary for the Employment Standards Administration.
Charles E. James, Sr.,
Deputy Assistant Secretary for Federal Contract Compliance.

[FR Doc. 04-27288 Filed 12-13-04; 8:45 am]

BILLING CODE 4510-CM-P